DEPARTMENT OF COMMERCE

Foreign-Trade Zones Board

[B-13-2014]

Foreign-Trade Zone (FTZ) 21—Charleston, South Carolina; Notification of Proposed Production Activity, MAHLE Behr Charleston, Inc., (Automotive Engine Components), Charleston, South Carolina

The South Carolina State Ports Authority, grantee of FTZ 21, submitted a notification of proposed production activity to the FTZ Board on behalf of MAHLE Behr Charleston, Inc. (MBCI), located in Charleston, South Carolina. The notification conforming to the requirements of the regulations of the FTZ Board (15 CFR 400.22) was received on February 6, 2014.

The MBCI facility is located within Site 26 of FTZ 21. The facility is used for the production of engine cooling modules, exhaust gas recirculation (EGR) valves and temperature sensors, and charge air coolers. Pursuant to 15 CFR 400.14(b), FTZ activity would be limited to the specific foreign-status materials and components and specific finished products described in the submitted notification (as described below) and subsequently authorized by the FTZ Board.

Production under FTZ procedures could exempt MBCI from customs duty payments on the foreign status components used in export production. On its domestic sales, MBCI would be able to choose the duty rates during customs entry procedures that apply to engine cooling modules and charge air coolers (2.5%) and exhaust gas recirculation valves and temperature sensors (free) for the foreign status inputs noted below. Customs duties also could possibly be deferred or reduced on foreign status production equipment.

The components and materials sourced from abroad include: plastic seals; rubber o-rings/seals/gaskets; compressors; metal brackets; fans/blowers and related parts; parts of condensers and evaporators; parts of EGR valve coolers; receiver/dryers; clutches; blower motors; resistors; wiring harnesses; body ducts; radiators and related parts; parts of air coolers and heater cores; thermostats; blower regulators; aluminum strip stock; aluminum tubes; and, air inlet/outlet casings (duty rate ranges from free to 5.3%).

Public comment is invited from interested parties. Submissions shall be addressed to the FTZ Board's Executive Secretary at the address below. The closing period for their receipt is April 7, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: February 14, 2014.
Andrew McGilvray,
Executive Secretary.

[FR Doc. 2014-03898 Filed 2-21-14; 8:45 am]

BILLING CODE 3510-DS-P